DEPARTMENT OF ENERGY

Federal Energy Regulatory Commission

[Docket No. CP03-45-000]

Williston Basin Interstate Pipeline Company; Notice of Application

February 4, 2003.

Take notice that on January 29, 2003., Williston Basin Interstate Pipeline Company (Williston Basin), P.O. Box 5601, Bismarck, North Dakota 58506-5601, filed in Docket No. CP03-37-000, an application pursuant to Section 7(b) of the Natural Gas Act (NGA), as amended, and part 157 of the regulations of the Federal Energy Regulatory Commission (Commission), for permission and approval to abandon compression and appurtenant facilities in Johnson County, Wyoming, all as more fully set forth in the application which is on file with the Commission and open to public inspection. Copies of this filing are on file with the Commission and are available for public inspection. This filing may also be viewed on the web at http://www.ferc.gov using the “FERRIS” link, select “Docket #” and follow the instructions (call 202-208-2222 for assistance).

Williston Basin proposes to abandon a leased 1,478 horsepower compressor unit and appurtenant facilities located within the Billy Creek Compressor Station in Johnson County. It is stated that the compressor unit was installed in 1999 by Williston Basin and owned by KCI, Inc. (KCI), in order for Williston Basin to gain access to additional gas supplies, and it was used to meet the requirements of a firm transportation agreeement. Williston Basin asserts that it leased the compressor unit from KCI for $150,000 per year. It is explained that the transportation agreement has expired, with an expiration date of December 20, 2002, and that Williston Basin no longer needs the compressor unit. Williston Basin states that it made the capacity available to its shippers, but that no shipper has expressed interest in acquiring the capacity at this time. It is asserted that Williston Basin would remove the compressor unit and return it to KCI in order to avoid incurring additional leasing costs. It is further asserted that removal of the compressor would have no adverse impact on Williston Basin's current operations or on its customers.

Any questions concerning this application may be directed to Keith A. Tigelaar, Director of Regulatory Affairs, at (701) 530-1560.

This filing is available for review at the Commission or may be viewed on the Commission's Web site at http://www.ferc.gov , using the “FERRIS” link. Enter the docket number excluding the last three digits in the docket number filed to access the document. For assistance, please contact FERC Online Support at FERC OnlineSupport@ferc.gov or call toll-free at (866)206-3676, or, for TTY, contact (202)502-8659.

There are two ways to become involved in the Commission's review of this project. First, any person wishing to obtain legal status by becoming a party to the proceedings for this project should, on or before the comment date file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link. The Commission strongly encourages intervenors to file electronically.

If the Commission decides to set the application for a formal hearing before an Administrative Law Judge, the Commission will issue another notice describing that process. At the end of the Commission's review process, a final Commission order approving or denying a certificate will be issued.

Comment Date: February 25, 2003.

Magalie R. Salas,
Secretary.

[FR Doc. 03-3141 Filed 2-7-03; 8:45 am]

BILLING CODE 6717-01-P